DEPARTMENT OF HEALTH AND HUMAN SERVICES

Centers for Disease Control and Prevention

[30Day-18-17BAW]

Agency Forms Undergoing Paperwork Reduction Act Review

In accordance with the Paperwork Reduction Act of 1995, the Centers for Disease Control and Prevention (CDC) has submitted the information collection request titled the Paul Coverdell National Acute Stroke Program (PCNASP) 2015-2020 Assessment to the Office of Management and Budget (OMB) for review and approval. CDC previously published a “Proposed Data Collection Submitted for Public Comment and Recommendations” notice on October 10, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Paul Coverdell National Acute Stroke Program (2015-2020) Assessment—New—National Center for Chronic Disease Prevention and Health Promotion (NCCDPHP), Centers for Disease Control and Prevention (CDC).

Background and Brief Description

The Centers for Disease Control and Prevention (CDC), Division for Heart Disease and Stroke Prevention (DHDSP), requests OMB approval for a new collection.

The CDC is the primary Federal agency for protecting health and promoting quality of life through the prevention and control of disease, injury, and disability. CDC is committed to programs that reduce the health and economic consequences of the leading causes of death and disability, thereby ensuring a long, productive, healthy life for all people.

Stroke remains a leading cause of serious, long-term disability and is the fifth leading cause of death in the United States after heart disease, cancer, chronic lower respiratory diseases, and accidents. Estimates indicate that approximately 795,000 people suffer a first-ever or recurrent stroke each year with more than 130,000 deaths annually. Although there have been significant advances in preventing and treating stroke, the rising prevalence of heart disease, diabetes, and obesity has increased the relative risk for stroke, especially in African American populations. Moreover, stroke's lifetime direct cost of health care and indirect cost of lost productivity is staggering and imposes a substantial societal economic burden. Coverdell-funded state programs are in the forefront of developing and implementing system-change efforts to improve emergency response systems, enhance the quality of care for stroke, and improve transitions across stroke systems of care, including pre-event; transitions from EMS to acute care in hospitals; and transitions from hospitals to home, rehabilitation, stroke specialist care, and primary care providers.

When Congress directed the CDC to establish the Paul Coverdell National Acute Stroke Program (PCNASP) in 2001, CDC intended to monitor trends in stroke and stroke care, with the ultimate mission of improving the quality of care for stroke patients in the United States. Since 2015, CDC has funded and provided technical assistance to nine state health departments to develop comprehensive stroke systems of care. A comprehensive system of care improves quality of care by creating seamless transitions for individuals experiencing stroke. In such a system, pre-hospital providers, in-hospital providers, and early post-hospital providers coordinate patient hand-offs and ensure continuity of care. CDC contracted with RTI International to conduct an assessment of the state health departments awarded grants in 2015 to assess their implementation in their state-based contexts and progress toward short- and intermediate-term outcomes.

CDC and RTI International propose to collect information from all nine funded PCNASP grantees to gain insight into the effectiveness of implementation of their quality improvement strategies, development (and use) of a data integrated management system, and partner collaboration in building comprehensive state-wide stroke systems of care. The information collection will focus on describing PCNASP specific contributions to effective state-based stroke systems of care and the costs associated with this work. Two components of the information collection include: (1) Program implementation cost data collection from program partners using a cost and resource utilization tool; and (2) telephone interviews with key program stakeholders, such as the PCNASP principal investigator, program manager, quality improvement specialist, data analyst/program evaluator, and partner support staff. Cost data collection will focus on a stratified sample of partners' cumulative spending to support PCNASP activities, spending by reporting period, and spending associated with specific PCNASP strategies related to building comprehensive state-wide stroke systems of care. Interview questions will target how each grantee implemented its strategies, challenges encountered and how they were overcome, factors that facilitated implementation, lessons learned along the way, and observed outcomes and improvements. The information to be collected does not currently exist for large scale, statewide programs that employ multiple combinations of strategies led by state public health departments to build comprehensive stroke systems of care. The insights to be gained from this data collection will be critical to improving immediate efforts and achieving the goals of spreading and replicating state-level strategies that are proven programmatically and are cost-effective in contributing to a higher quality of care for stroke patients.

The total estimated annual burden hours are 328. There are no costs to the respondents other than their time.

Estimated Annualized Burden Hours
Type of respondents | Form name | Number of respondents | Number of responses per respondent | Average burden per response (in hours)
Partner Program Manager | Cost Resource and Utilization Tool | 137 | 1 | 2
Principal Investigator | Telephonic Interviews | 3 | 1 | 1
Grantee Program Manager | Telephonic Interviews | 3 | 1 | 1
Quality Improvement Specialist | Telephonic Interviews | 3 | 1 | 1
Data Analyst/Program Evaluator | Telephonic Interviews | 3 | 1 | 1
Partner Support Staff | Telephonic Interviews | 6 | 1 | 1

Leroy A. Richardson,
Chief, Information Collection Review Office, Office of Scientific Integrity, Office of the Associate Director for Science, Office of the Director, Centers for Disease Control and Prevention.

[FR Doc. 2018-08165 Filed 4-18-18; 8:45 am]

BILLING CODE 4163-18-P